DEPARTMENT OF COMMERCE

International Trade Administration

[A-570-831]

Fresh Garlic From the People's Republic of China; Initiation of New Shipper Reviews

AGENCY: Import Administration, International Trade Administration, Department of Commerce.

EFFECTIVE DATE: July 11, 2005.

SUMMARY: The Department of Commerce (the “Department”) has determined that three requests for new shipper reviews of the antidumping duty order on fresh garlic from the People's Republic of China (“PRC”), received in May 2005, meet the statutory and regulatory requirements for initiation. The period of review (“POR”) of these new shipper reviews is November 1, 2004, through April 30, 2005.

FOR FURTHER INFORMATION CONTACT: Ryan A. Douglas or Brian Ledgerwood at (202) 482-1277 and (202) 482-3836, respectively, AD/CVD Operations, Office 8, Import Administration, International Trade Administration, U.S. Department of Commerce, 14th Street and Constitution Avenue, NW, Washington, DC 20230.

SUPPLEMENTARY INFORMATION:

Background

The notice announcing the antidumping duty order on fresh garlic from the PRC was published on November 16, 1994. On May 17, May 26, and May 31, 2005, we received requests for new shipper reviews from Shandong Chengshun Farm Produce Trading Company, Ltd. (“Shandong Chengshun”); Xi'an XiongLi Foodstuff Co., Ltd. (“Xian XiongLi”); and Shenzhen Fanhui Import and Export Co., Ltd. (“Fanhui”), respectively.

Fanhui certified that it grew and exported the garlic on which it based its request for a new shipper review. Shandong Chengshun and Xian XiongLi certified that they exported, but did not grow, the fresh garlic on which they based their requests for a new shipper review. Specifically, Shandong Chengshun certified that Jinxiang Chengsen Agricultural Trade Company, Ltd. (“CATC”) grew the fresh garlic it exported and Xian XiongLi certified that Jinxiang Tianshan Foodstuff Co., Ltd. (“JTFC”) grew the fresh garlic it exported.

Initiation of New Shipper Reviews.

Pursuant to section 751(a)(2)(B)(i)(I) of the Act and 19 CFR 351.214(b)(2)(i), Shandong Chengshun, Fanhui, and Xian XiongLi certified that they did not export fresh garlic to the United States during the period of investigation (“POI”). In addition, pursuant to 19 CFR 351.214(b)(2)(ii)(B), CATC and JTFC, the growers of the garlic exported by Shandong Chengshun and Xian XiongLi, respectively, provided certification that they did not export fresh garlic to the United States during the POI. Pursuant to section 751(a)(2)(B)(i)(II) of the Act and 19 CFR 351.214(b)(2)(iii)(A), each of the three exporters, Shandong Chengshun, Fanhui, and Xian XiongLi, certified that, since the initiation of the investigation, they have never been affiliated with any exporter or grower who exported fresh garlic to the United States during the POI, including those not individually examined during the investigation. As required by 19 CFR 351.214(b)(2)(iii)(B), each of the above-mentioned companies also certified that their export activities were not controlled by the central government of the PRC.

In addition to the certifications described above, the exporters submitted documentation establishing the following: (1) the date on which they first shipped fresh garlic for export to the United States and the date on which the fresh garlic was first entered, or withdrawn from warehouse, for consumption; (2) the volume of their first shipment and the volume of subsequent shipments; and (3) the date of their first sale to an unaffiliated customer in the United States.

Pursuant to section 751(a)(2)(B) of the Act and 19 CFR 351.214(d)(1), we are initiating three new shipper reviews for shipments of fresh garlic from the PRC:

1) grown by CATC and exported by Shandong Chengshun;

2) grown and exported by Fanhui; and

3) grown by JTFC and exported by Xian XiongLi.

The POR is November 1, 2004, through April 30, 2005. See 19 CFR 351.214(g)(1)(i)(B). We intend to issue preliminary results of these reviews no later than 180 days from the date of initiation, and final results of these reviews no later than 270 days from the date of initiation. See section 751(a)(2)(B)(iv) of the Act.

Because Fanhui has certified that it grew and exported the fresh garlic on which it based its request for a new shipper review, we will instruct U.S. Customs and Border Protection (CBP) to allow, at the option of the importer, the posting of a bond or security in lieu of a cash deposit for each entry of fresh garlic both grown and exported by Fanhui until the completion of the new shipper reviews, pursuant to section 751(a)(2)(B)(iii) of the Act. With respect to Shandong Chengshun and Xian XiongLi, they have certified that they exported, but did not grow, the fresh garlic on which they based their requests for new shipper reviews. Therefore, until completion of the new shipper reviews, we will instruct CBP to allow, at the option of the importer, the posting of a bond or security in lieu of a cash deposit for entries of fresh garlic grown by CATC and exported by Shandong Chengshun or fresh garlic grown by JTFC and exported by Xian XiongLi.

Interested parties that need access to proprietary information in this new shipper review should submit applications for disclosure under administrative protective order in accordance with 19 CFR 351.305 and 351.306.

This initiation and notice are in accordance with section 751(a)(2)(B) of the Act and 19 CFR 351.214 and 351.221(c)(1)(i).

Dated: June 30, 2005.
Joseph A. Spetrini,
Acting Assistant Secretary for Import Administration.

[FR Doc. 05-13502 Filed 7-8-05; 8:45 am]

BILLING CODE 3510-DS-S